DEPARTMENT OF ENERGY

Federal Energy Regulatory Commission

[Project No. 1494-438]

Grand River Dam Authority; Notice of Intent To File License Application, Filing of Pre-Application Document (Pad), Commencement of Pre-Filing Process, and Scoping; Request for Comments on the Pad and Scoping Document, and Identification of Issues and Associated Study Requests

a. Type of Filing: Notice of Intent to File License Application for a New License and Commencing Pre-filing Process.

b. Project No.: 1494-438.

c. Dated Filed: February 1, 2017.

d. Submitted By: Grand River Dam Authority (GRDA).

e. Name of Project: Pensacola Hydroelectric Project.

f. Location: The project is located on the Grand (Neosho) River in Craig, Delaware, Mayes, and Ottawa Counties, Oklahoma. No federal lands have been identified within the project boundary.

g. Filed Pursuant to: 18 CFR part 5 of the Commission's Regulations.

h. Potential Applicant Contact: Dr. Darrell Townsend, Assistant General Manager, GRDA, 420 Highway 28, Langley, OK 74359-0070; (918) 256-0616 or dtownsend@grda.com.

i. FERC Contact: Rachel McNamara at (202) 502-8340 or email at rachel.mcnamara@ferc.gov.

j. Cooperating agencies: Federal, state, local, and tribal agencies with jurisdiction and/or special expertise with respect to environmental issues that wish to cooperate in the preparation of the environmental document should follow the instructions for filing such requests described in item o below. Cooperating agencies should note the Commission's policy that agencies that cooperate in the preparation of the environmental document cannot also intervene. See 94 FERC 61,076 (2001).

k. With this notice, we are initiating informal consultation with: (a) The U.S. Fish and Wildlife Service and/or NOAA Fisheries under section 7 of the Endangered Species Act and the joint agency regulations thereunder at 50 CFR, Part 402 and (b) the State Historic Preservation Officer, as required by section 106, National Historic Preservation Act, and the implementing regulations of the Advisory Council on Historic Preservation at 36 CFR 800.2.

l. With this notice, we are designating GRDA as the Commission's non-federal representative for carrying out informal consultation, pursuant to section 7 of the Endangered Species Act and section 106 of the National Historic Preservation Act.

m. GRDA filed with the Commission a Pre-Application Document (PAD; including a proposed process plan and schedule), pursuant to 18 CFR 5.6 of the Commission's regulations.

n. A copy of the PAD is available for review at the Commission in the Public Reference Room or may be viewed on the Commission's website (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

Register online at http://www.ferc.gov/docs-filing/esubscription.asp to be notified via email of new filing and issuances related to this or other pending projects. For assistance, contact FERC Online Support.

o. With this notice, we are soliciting comments on the PAD and Commission's staff Scoping Document 1 (SD1), as well as study requests. All comments on the PAD and SD1, and study requests should be sent to the address above in paragraph h. In addition, all comments on the PAD and SD1, study requests, requests for cooperating agency status, and all communications to and from Commission staff related to the merits of the potential application must be filed with the Commission.

The Commission strongly encourages electronic filing. Please file all documents using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov. In lieu of electronic filing, please send a paper copy to: Secretary, Federal Energy Regulatory Commission, 888 First Street NE, Washington, DC 20426. The first page of any filing should include docket number P-1494-438.

All filings with the Commission must bear the appropriate heading: Comments on Pre-Application Document, Study Requests, Comments on Scoping Document 1, Request for Cooperating Agency Status, or Communications to and from Commission Staff. Any individual or entity interested in submitting study requests, commenting on the PAD or SD1, and any agency requesting cooperating status must do so by March 13, 2018.

p. We intend to prepare either an environmental assessment (EA) or Environmental Impact Statement (EIS). The meetings listed below will satisfy the NEPA scoping requirements, irrespective of whether an EA or EIS is issued by the Commission.

Scoping Meetings

Commission staff will hold four scoping meetings in the vicinity of the project at the times and places noted below. The daytime meetings will focus on resource agency, Indian tribes, and non-governmental organization concerns, while the evening meetings are primarily for receiving input from the public. We invite all interested individuals, organizations, and agencies to attend one or more of the meetings, and to assist staff in identifying particular study needs, as well as the scope of environmental issues to be addressed in the environmental document. The times and locations of these meetings are as follows:

Daytime Scoping Meeting—Langley, Oklahoma

Date & Time: Wednesday, February 7, 2018 at 9 a.m.

Location: GRDA Ecosystems and Education Center, 420 E. Highway 28, Langley, Oklahoma 74350, (918) 256-0723.

Evening Scoping Meeting—Grove, Oklahoma

Date & Time: Wednesday, February 7, 2018 at 6 p.m.

Location: Grove City Hall, 104 W. 3rd Street, Grove, Oklahoma 74344, (918) 786-6107.

Evening Scoping Meeting—Miami, Oklahoma

Date & Time: Thursday, February 8, 2018 at 6 p.m.

Location: Northeastern Oklahoma A&M College, Fine Arts Center Performance Hall, 200 I St. NE, Miami, Oklahoma 74354, (918) 540-6203.

Daytime Scoping Meeting—Tulsa, Oklahoma

Date & Time: Friday, February 9, 2018 at 9 a.m.

Location: GRDA Engineering and Technology Center, 9933 E. 16th Street, Tulsa, Oklahoma, (918) 256-5545.

Please RSVP to Jacklyn Jaggars, (918) 256-0723 or jjaggars@grda.com, on or before January 31, 2018 if you plan to attend the scoping meeting in Tulsa.

Scoping Document 1 (SD1), which outlines the subject areas to be addressed in the environmental document, was mailed to the individuals and entities on the Commission's mailing list. Copies of SD1 will be available at the scoping meetings, or may be viewed on the web at http://www.ferc.gov, using the eLibrary link. Follow the directions for accessing information in paragraph n. Based on all oral and written comments, a Scoping Document 2 (SD2) may be issued. SD2 may include a revised process plan and schedule, as well as a list of issues, identified through the scoping process.

Environmental Site Review

The potential applicant and Commission staff will conduct an Environmental Site Review (site visit) of the project on Wednesday, February 7, 2018, starting at 12:30 p.m., and ending at or about 4:30 p.m. All participants should meet at the GRDA Ecosystems and Education Center located at 420 E. Highway 28, Langley, Oklahoma 74350. Participants must notify Jacklyn Jaggars at (918) 256-0723 or jjaggars@grda.com, on or before January 31, 2018, if they plan to attend the environmental site review.

Meeting Objectives

At the scoping meetings, staff will: (1) Initiate scoping of the issues; (2) review and discuss existing conditions and resource management objectives; (3) review and discuss existing information and identify preliminary information and study needs; (4) review and discuss the process plan and schedule for pre-filing activity that incorporates the time frames provided for in Part 5 of the Commission's regulations and, to the extent possible, maximizes coordination of federal, state, and tribal permitting and certification processes; and (5) discuss the appropriateness of any federal or state agency or Indian tribe acting as a cooperating agency for development of an environmental document.

Meeting participants should come prepared to discuss their issues and/or concerns. Please review the PAD in preparation for the scoping meetings. Directions on how to obtain a copy of the PAD and SD1 are included in item n. of this document.

Meeting Procedures

The meetings will be recorded by a stenographer and will be placed in the public records of the project.

Dated: January 12, 2018.
Kimberly D. Bose,
Secretary.

[FR Doc. 2018-01013 Filed 1-19-18; 8:45 am]

BILLING CODE 6717-01-P